DEPARTMENT OF ENERGY

National Nuclear Security Administration

Record of Decision for the Continued Operation of the Department of Energy/National Nuclear Security Administration Nevada National Security Site and Off-Site Locations in the State of Nevada

AGENCY: National Nuclear Security Administration, U.S. Department of Energy.

ACTION: Record of Decision.

SUMMARY: The U.S. Department of Energy/National Nuclear Security Administration (DOE/NNSA) is issuing this Record of Decision (ROD) for the continued management, operation, and activities of the Nevada National Security Site (NNSS) and Off-Site Locations in the State of Nevada pursuant to the Final Site-Wide Environmental Impact Statement for the Continued Operation of the Department of Energy/National Nuclear Security Administration Nevada National Security Site and Off-Site Locations in the State of Nevada, DOE/EIS-0426 (Final NNSS SWEIS) issued on February 22, 2013. In making its decision, DOE/NNSA considered potential environmental impacts of operations and activities, current and future mission needs, technical and security considerations, availability of resources, and public comments on the Draft and Final NNSS SWEIS. The Final NNSS SWEIS analyzes ongoing and reasonably foreseeable future operations and activities at the NNSS and other DOE/NNSA facilities in Nevada, including the Remote Sensing Laboratory (RSL) at Nellis Air Force Base (NAFB), the North Las Vegas Facility (NLVF), the Tonopah Test Range (TTR), and environmental restoration sites located on the Nevada Test and Training Range (NTTR) (formerly the Nellis Air Force Range).

DOE/NNSA has decided to implement the Preferred Alternative, which is identified in the Summary, Table S-1, and Chapter 3, Section 3.4, of the Final NNSS SWEIS. The capabilities, projects, and activities that comprise the elements of DOE/NNSA's decision, and the original alternative from which each is derived, are described in the “Decision” section below.

FOR FURTHER INFORMATION CONTACT: For further information on this ROD, or other NNSS National Environmental Policy Act (NEPA) documents, contact Ms. Linda M. Cohn, SWEIS Document Manager, NNSA Nevada Field Office, U.S. Department of Energy, P.O. Box 98518, Las Vegas, Nevada 89193-8518, (702) 295-0077. For information on the DOE NEPA process, contact Ms. Carol M. Borgstrom, Director, Office of NEPA Policy and Compliance (GC-54), U.S. Department of Energy, 1000 Independence Avenue SW., Washington, DC 20585, (202) 586-4600, or leave a message at (800) 472-2756. Additional information regarding DOE NEPA activities and access to many DOE NEPA documents, including the Final NNSS SWEIS, are available on the Internet through the DOE NEPA Web site at http://energy.gov/nepa.

SUPPLEMENTARY INFORMATION:

Background

DOE/NNSA prepared the Draft and Final NNSS SWEIS and this ROD pursuant to the regulations of the Council on Environmental Quality (CEQ) for implementing NEPA (40 CFR parts 1500-1508) and DOE's NEPA Implementing Procedures (10 CFR part 1021).

The DOE/NNSA missions and associated programs in Nevada are (1) the National Security/Defense Mission, which includes the Stockpile Stewardship and Management Program; Nuclear Emergency Response, Nonproliferation, and Counterterrorism Program; and Strategic Partnership Program (previously Work for Others); (2) the Environmental Management Mission, which includes the Waste Management and Environmental Restoration Programs; and (3) the Nondefense Mission, which includes the General Site Support and Infrastructure, Conservation and Renewable Energy, and Other Research and Development Programs. These missions and programs are carried out at the NNSS, RSL, NLVF, and NTTR/TTR. The U.S. Air Force, U.S. Bureau of Land Management, and Nye County, Nevada, were cooperating agencies in the preparation of the NNSS SWEIS. In addition, the Consolidated Group of Tribes and Organizations, which includes representatives from 16 culturally affiliated American Indian Tribes, participated in the preparation of this SWEIS by providing text in the document that gave their perspectives of the land and activities conducted and proposed by the Federal government.

The NNSS occupies approximately 1,360 square miles of desert and mountain terrain in southern Nevada. It is a multi-disciplinary, multi-purpose facility primarily engaged in work that supports national security, homeland security initiatives, waste management, environmental restoration, and defense and nondefense research and development programs for DOE/NNSA and other government entities.

RSL is located on 35 acres at NAFB in North Las Vegas, Nevada. Radiological emergency response, the Aerial Measuring System, radiological sensor development and testing, Secure Systems Technologies, nuclear nonproliferation capabilities, and information and communication technologies are supported at RSL.

NLVF, located on approximately 78 acres, comprises 29 buildings that include office buildings, a high bay, machine shop, laboratories, experimental facilities, and various other mission-support facilities.

The TTR consists of a 280-square-mile area north of the NNSS on the U.S. Air Force NTTR. Activities conducted at TTR include flight-testing of gravity weapons (bombs); research, development, and evaluation of nuclear weapons components and delivery systems; and national security-related work for other agencies and organizations. Environmental restoration activities are also conducted on the NTTR.

DOE/NNSA analyzed various radioactive waste shipping routes through and around metropolitan Las Vegas, Nevada, in the Draft and Final NNSS SWEIS. DOE/NNSA has taken into consideration the comments and concerns expressed by state, county, and local government officials and the public during the review and comment period for the Draft and in preparation of the Final NNSS SWEIS. Shipments of low-level radioactive waste (LLW) and mixed low-level radioactive waste (MLLW) to the NNSS for disposal will continue to be done in accordance with commitments made to the State of Nevada and provisions of the NNSS waste acceptance criteria regarding routing and related matters associated with such shipments.

Alternatives Considered

In the Draft and Final NNSS SWEIS, DOE/NNSA analyzed the potential environmental impacts of three alternatives: (1) No Action, (2) Expanded Operations, and (3) Reduced Operations. These alternatives considered current and reasonably foreseeable missions, programs, capabilities, and projects at the NNSS and the three offsite locations. Alternative descriptions are organized under three missions, each with two or more associated programs. Mission-related capabilities, projects, and activities are identified by program area for each of the alternatives. The three alternatives include similar types of programs, capabilities, projects, and activities, but differ primarily in their levels of operations and facilities requirements. The Final NNSS SWEIS identified a Preferred Alternative, which incorporates elements from the analyzed alternatives.

The No Action Alternative reflects the use of existing capabilities to maintain operations at levels consistent with those experienced since 1996. The Expanded Operations Alternative differs from the No Action Alternative in that the levels of operations would be enhanced or accelerated; some new activities would be implemented; and new facilities would be constructed to support increased levels of operations and activities. In addition, under the Expanded Operations Alternative, DOE/NNSA would modify land use zones at the NNSS to better reflect the kinds of activities that would be undertaken in those zones. Under the Reduced Operations Alternative, DOE/NNSA would conduct some activities at a level similar to that of the No Action Alternative, but for other activities, the levels of operations would be reduced or would cease altogether.

All three alternatives include consideration of potential commercial solar power generation at the NNSS at varying levels of generating capacity (i.e., 240 megawatt [MW]-No Action, 1,000 MW-Expanded Operations, and 100 MW-Reduced Operations). The Final NNSS SWEIS also indicated, and the Preferred Alternative incorporates, a number of conceptual or potential activities for which there is insufficient information available to conduct a project-specific NEPA review (marked with footnote “a” in Tables S-1 and 3-3 of the Final NNSS SWEIS). Because the solar power generation scenarios and other identified conceptual or potential activities have not yet been adequately addressed for purposes of NEPA, DOE/NNSA is not making any decision regarding them. When sufficient information becomes available regarding any one or more of these conceptual or potential activities, DOE/NNSA will conduct an appropriate NEPA review before making any decision(s).

Preferred Alternative

At the time the Draft NNSS SWEIS was published, DOE/NNSA had not selected a Preferred Alternative. The Final NNSS SWEIS identified DOE/NNSA's Preferred Alternative (described in the Summary, Table S-1 and Chapter 3, Section 3.4) as a hybrid alternative comprising mission-supporting programs, capabilities, projects, and activities selected from among the three alternatives, based upon current and projected mission needs. In some cases, DOE/NNSA identified preferences from each of the three original alternatives within a single program area.

Environmentally Preferable Alternative

After considering the potential impacts to each resource area by alternative, DOE/NNSA identified the Reduced Operations Alternative as the environmentally preferable alternative. The operational level of this alternative would be reduced for most programs, and most activities would cease in the northwestern portion of the NNSS (Areas 18, 19, 20, 29, and 30), with the exception of environmental restoration and monitoring, site security operations, military training and exercises, and maintenance of certain critical infrastructure systems. This reduced level of activities, as well as closure of some older and less efficient facilities, would result in lower levels of water, fuel, and electricity use; less physical disturbance of land; and reduced onsite generation of some types of wastes. The pace of environmental restoration activities, as well as other requirements for environmental monitoring and protection, would generally remain unchanged from current levels.

Environmental Impacts of Alternatives

The NNSS SWEIS analyzed the potential impacts of each alternative on Land Use, Infrastructure and Energy, Transportation and Traffic, Socioeconomics, Geology and Soils, Hydrology (Groundwater and Surface Water), Biological Resources, Air Quality and Climate, Visual Resources, Cultural Resources, Waste Management, Human Health, and Environmental Justice. Under each alternative, the potential impacts are described in relation to the three major missions (National Security/Defense, Environmental Management, and Nondefense) and the DOE/NNSA facility with which they are associated (NNSS, RSL, NLVF, and TTR). DOE/NNSA also evaluated the potential impacts of each alternative as to irreversible and irretrievable commitments of resources, and the relationship between short-term uses of the environment and the maintenance and enhancement of long-term productivity. In addition, DOE/NNSA evaluated the impact of potential accidents during transportation of LLW on workers and surrounding populations. These analyses and results are described in the Summary and Chapter 5 of the Final NNSS SWEIS. Table 3-4 of the Final NNSS SWEIS provides a summary of potential environmental impacts associated with the Preferred Alternative, as well as a means for comparing the potential impacts of the Preferred Alternative with each of the analyzed alternatives.

Comments on the Final Site-Wide Environmental Impact Statement

DOE/NNSA distributed the Final NNSS SWEIS to Congressional members and committees; State and local governments; other Federal agencies; culturally affiliated American Indian Tribes; non-governmental organizations; and other stakeholders, including members of the public who requested direct distribution of the document. The Final NNSS SWEIS also was made available to the public via the Internet. Within 30 days following publication of the Final NNSS SWEIS in February 2013, DOE/NNSA received comment letters from the Nuclear Project Office of the State of Nevada, Clark and Nye Counties, and the City of Las Vegas. Also within 30 days following the publication of the Final NNSS SWEIS, a fifth letter was received from the U.S. Environmental Protection Agency (EPA). DOE/NNSA has concluded that these letters do not identify a need for further NEPA analysis. The Appendix to this ROD summarizes DOE/NNSA's consideration of these letters.

Decision

DOE/NNSA has decided to implement the Preferred Alternative, which is identified in the Summary, Table S-1, and Chapter 3, Section 3.4 of the Final NNSS SWEIS. The capabilities, projects, and activities that comprise the elements of DOE/NNSA's decision, and the original alternative from which each is derived, are described below.

National Security/Defense Mission Decisions

Stockpile Stewardship and Management Program

From the No Action Alternative, DOE/NNSA will continue to maintain readiness to conduct underground nuclear tests but will not conduct such a test unless directed by the President in the interest of national security. DOE/NNSA will conduct up to 10 dynamic experiments (including sub-critical experiments at U1a) per year within any one or more of the following NNSS Areas 1, 2, 3, 4, 6, 7, 8, 9, 10, 11, 12, and 16; conduct up to 500 criticality operations (training and other activities) per year at the National Criticality Experiments Research Center at the Device Assembly Facility in Area 6 of the NNSS; conduct up to 600 plasma physics and fusion experiments each year at NLVF and up to 50 each year in Area 11 of the NNSS; conduct up to five post-shot drill-back operations at the NNSS; and disposition damaged U.S. nuclear weapons on an as-needed basis. (Appendix A, A.1.1.1)

From the Expanded Operations Alternative, DOE/NNSA will conduct up to 100 conventional explosives experiments per year within any one or more of the following NNSS Areas 1, 2, 3, 4, 12, and 16, using up to 120,000 pounds TNT-equivalent per experiment of explosive charges in support of both the Stockpile Stewardship and Work for Others Programs (up to 50 of these 100 experiments will be conducted at the Big Explosives Experimental Facility [BEEF] with a TNT-equivalent limitation of 70,000 pounds per experiment); establish a second firing table and high-energy x-ray capability at BEEF to support conventional explosives experiments; establish up to three areas at the NNSS for conducting explosive experiments with depleted uranium, and conduct up to 20 of these experiments per year; conduct up to 36 shock physics experiments per year at the NNSS using actinide targets at the Joint Actinide Shock Physics Experimental Research facility in Area 27 of the NNSS and up to 24 such experiments per year using the Large-Bore Powder Gun at the U1a facility in Area 1 of the NNSS; test weapons components for quality assurance under the Limited Life Component Exchange Program; transfer special nuclear material, including nuclear weapon pits, to and from other locations in the DOE/NNSA complex for staging and use in experiments at the NNSS; and continue to conduct Stockpile Stewardship operations at the TTR (e.g., tests and experiments, including flight test operations for gravity weapons; ground/air-launched rocket and missile operations; impact testing; passive testing of joint test assemblies and conventional weapons; and fuel-air explosives testing). Certain safeguards, security, and other administrative functions at the TTR may be turned over to the U.S. Air Force. (Appendix A, A.2.1.1)

From the Reduced Operations Alternative, DOE/NNSA will decommission and disposition the Atlas Facility (a facility designed to support pulsed power experiments); conduct training for the Office of Secure Transportation up to four times per year at various locations on NNSS roads; and conduct Stockpile Stewardship and Management Program activities, including dynamic experiments, which will continue in any one or more of the following NNSS Areas 1, 2, 3, 4, 6, 7, 8, 9, 10, 11, 12, and 16, but will no longer be conducted in Areas 19 and 20. (Appendix A, A.3.1.1)

Nuclear Emergency Response, Nonproliferation, and Counterterrorism Programs

From the No Action Alternative, DOE/NNSA will continue to provide support for the Nuclear Emergency Support Team, the Federal Radiological Monitoring and Assessment Center, the Accident Response Group, and the Radiological Assistance Program; conduct Aerial Measuring System activities from RSL at NAFB; conduct weapons of mass destruction (WMD) emergency responder training at various Nevada Field Office venues, as well as support the DOE Emergency Communications Network. (Appendix A, A.1.1.2)

From the Expanded Operations Alternative, DOE/NNSA will continue to be prepared to disposition improvised nuclear devices and deploy the DOE/NNSA Disposition Forensic Program to the NNSS for training and exercises or for an actual event, as needed, and will additionally disposition radiological dispersion devices as needed. DOE/NNSA will continue to integrate existing activities and experimental facilities (primarily at NNSS) to support U.S. efforts to control the spread of WMDs, particularly nuclear WMDs, including arms control, nonproliferation activities, nuclear forensics, and counterterrorism capabilities. (Appendix A, A.2.1.2)

Strategic Partnership Program (Work for Others)

From the No Action Alternative, DOE/NNSA will, on behalf of other agencies and organizations, continue to host treaty verification activities; conduct nonproliferation projects and research and development at the NNSS, including conventional weapons effects and other explosives experiments; support development of capabilities to detect and defeat military assets in deeply buried hardened targets; conduct up to 20 controlled chemical and biological simulant release experiments per year (each experiment will include multiple releases by a variety of means, including explosives); and continue to support training, research, and development of equipment, specialized munitions, and tactics related to counterterrorism. (Appendix A, A.1.1.3)

From the Expanded Operations Alternative, DOE/NNSA will continue to conduct Work for Others Program activities in all approved zones on the NNSS, RSL, and NLVF, and redesignate land use at Area 15 of the NNSS from “Reserved Zone” to “Research, Test, and Experiment Zone”; develop and construct new facilities to support counterterrorism training and research and development activities; continue to support the National Aeronautics and Space Administration's deep space power source development by conducting criticality experiments and emission sequestration experiments using surrogates for rocket motors; increase use of various aerial platforms (such as airplanes, unmanned aerial systems, and helicopters) for research and development, training, and exercises, including constructing additional hangars, shops, and buildings at existing airports at the NNSS; conduct up to 3 underground and 12 open-air radioactive tracer experiments per year; support increased research and development of active interrogation equipment, methods, and training; and conduct Work for Others Program activities at the TTR, including robotics testing, smart transportation-related testing, smoke obscuration operations, infrared tests, and rocket development. (Appendix A, A.2.1.3)

Environmental Management Mission Decisions

Waste Management Program

From the No Action Alternative, DOE/NNSA will continue to operate the Area 5 Hazardous Waste Storage Unit and store up to 170,000 cubic feet of onsite-generated hazardous waste as needed, pending offsite treatment or disposal; continue to operate the Area 11 Explosives Ordnance Disposal Unit (treating up to 41,000 pounds of explosives over the next 10 years); and continue to operate the Area 6 Hydrocarbon Landfill within permitted conditions. (Appendix A, A.1.2.1)

From the Expanded Operations Alternative, DOE/NNSA will dispose of up to 48,000,000 cubic feet of LLW and up to 4,000,000 cubic feet of MLLW at the Area 5 Radioactive Waste Management Complex (RWMC); store MLLW (received from both on- and off-site generators) at the Area 5 RWMC pending treatment by macroencapsulation and microencapsulation (i.e., repackaging); and conduct sorting and segregating of MLLW, bench-scale mercury amalgamation of MLLW, and/or dispose of this waste at the Area 5 RWMC, as appropriate. In the future and as needed, DOE may use disposal space in Area 3, subject to detailed discussions with the State of Nevada. This space may be needed for disposal of LLW, large onsite remediation debris or soils from cleanup of DOE/NNSA sites within the State of Nevada and would be limited to in-state generated waste. DOE/NNSA will store up to 19,000 cubic feet of onsite-generated transuranic (TRU) waste at the TRU pad at the Area 5 RWMC pending offsite disposal. DOE/NNSA will continue to operate the Area 23 Solid Waste Disposal Site and the U10c Solid Waste Disposal Site, disposing of up to 8,500,000 cubic feet of sanitary solid waste expected to be generated at the NNSS. Subject to regulatory permitting, DOE/NNSA will construct new sanitary solid waste disposal facilities as needed in Area 23 and develop a new solid waste disposal facility in Area 25 to support environmental restoration activities. (Appendix A, A.2.2.1)

Environmental Restoration Program

From the No Action Alternative, DOE/NNSA will continue, in compliance with the Federal Facility Agreement and Consent Order (FFACO) to identify, characterize, remediate, and decontaminate and decommission industrial sites as necessary; continue to monitor and remediate sites that are the responsibility of the Defense Threat Reduction Agency at the NNSS, in accordance with the FFACO; and continue to conduct the Borehole Management Program. (Appendix A, A.1.2.2)

From the Expanded Operations Alternative, DOE/NNSA will, as part of its Underground Test Area Activity, continue to monitor groundwater from existing wells, drill new groundwater characterization and monitoring wells, develop groundwater flow and transport models, and continue to evaluate closure strategies at an accelerated pace; and as part of its Soils Project, in compliance with the FFACO, identify and characterize areas with contaminated soils and perform corrective actions with potentially stricter cleanup standards (resulting in larger volumes of waste). (Appendix A, A.2.2.2)

Nondefense Mission Decisions

General Site Support and Infrastructure Program

From the Expanded Operations Alternative, DOE/NNSA will continue to maintain and repair its infrastructure at the NNSS, RSL, NLVF, and the TTR; maintain the existing infrastructure, provide site security, and manage all applicable existing permits and agreements and will additionally construct a new, approximately 85,000-square-foot, consolidated security building in Area 23 of the NNSS and evaluate and either demolish or repurpose the existing security facilities; replace at the same operating voltage the existing NNSS 138-kilovolt electrical transmission system between Mercury Switching Center in Area 23 and Valley Substation in Area 2 to increase the capacity of the system from about 40 MW to 100 MW; and upgrade the telecommunication system on the NNSS to better integrate wired and wireless systems. (Appendix A, A.2.3.1)

From the Reduced Operations Alternative, DOE/NNSA will maintain only critical infrastructure within NNSS Areas 18, 19, 20, 29, and 30 (including certain communications facilities, electrical transmission lines and substations, and Well 8), maintaining roads within these areas only to provide access to the infrastructure and environmental restoration sites. (Appendix A, A.3.3.1)

Conservation and Renewable Energy Program

From the No Action Alternative, DOE/NNSA will continue to identify and implement conservation measures and renewable energy projects in accordance with applicable Executive Orders and DOE Orders in areas including energy efficiency, water conservation, transportation and fleet management, and high-performance and sustainable buildings. (Appendix A, A.1.3.2)

From the Expanded Operations Alternative, DOE/NNSA will construct a photovoltaic solar power system up to 5 MW near the Area 6 Construction Facilities, which will provide electrical power for onsite consumption. (Appendix A, A.2.3.2)

Other Research and Development Programs

From the No Action Alternative, DOE/NNSA will continue to support the DOE National Environmental Research Park Program and other non-DOE/NNSA research and development activities in all areas of the NNSS. (Appendix A, A.1.3.3)

Basis for Decision

In making its decision, DOE/NNSA considered potential environmental impacts of operations and activities, current and future mission needs, technical and security considerations, availability of resources, compatibility with current and future missions of the DOE/NNSA, and public comments on the Draft and Final NNSS SWEIS. In doing so, DOE/NNSA considered mission requirements established by law; contemporary goals and objectives identified in site-level planning documents; as well as anticipated funding levels for DOE/NNSA and other users of the NNSS and offsite locations, such as the U.S. Department of Homeland Security. Through the NNSS SWEIS, DOE/NNSA considered the potential environmental impacts that could result from the implementation of each proposed program, capability, project and activity, and how it might accomplish its underlying current and future mission requirements in a manner that minimizes adverse environmental impacts.

Mitigation Measures

All practicable means to avoid or minimize environmental harm have been and will continue to be adopted and employed in the continued operation of the NNSS and other offsite DOE/NNSA facilities in the State of Nevada. DOE/NNSA will follow Federal environmental laws and DOE Orders and regulations, and utilize its Environmental Management System to ensure that environmental impacts are systematically identified, controlled, and monitored. Whenever possible, mitigation measures will be implemented to minimize those impacts. DOE/NNSA will implement mitigation strategies through habitat conservation measures such as revegetation; protection of cultural resources with early planning and avoidance; waste minimization and energy conservation; and greater inclusion of culturally affiliated American Indian Tribes in monitoring and conducting traditional ceremonies to benefit the health of the land. DOE/NNSA considers all of these measures to be viable means to mitigate adverse environmental impacts, and will apply the applicable strategies as specific programs, capabilities, projects, and activities are conducted.

Issued at Washington, DC, this 15th day of December 2014.
Frank G. Klotz,
Under Secretary for Nuclear Security, Administrator/National Nuclear Security Administration.

Appendix: Public Comments Received After the Publication of the Final NNSS SWEIS

DOE/NNSA received four comment letters regarding the Final NNSS SWEIS. These letters were received from the State of Nevada Nuclear Project Office, Clark County, Nye County, and the City of Las Vegas. A letter from the EPA was also received after the completion of the NNSS SWEIS.

DOE/NNSA considered all comments contained in these letters. DOE/NNSA determined that none of these comments identify or present new information that would warrant a supplement to the Final NNSS SWEIS or other additional NEPA analysis. Most of these comments are similar to, and in many cases the same as, comments submitted on the Draft NNSS SWEIS, to which DOE/NNSS responded in the Final NNSS SWEIS (Volume 3, Comment Response Document). Regarding transportation impact comments submitted by the State, county and local governments on the Final NNSS SWEIS, shipments of low-level radioactive waste (LLW) and mixed low-level radioactive waste (MLLW) to the NNSS for disposal will continue to be done in accordance with commitments made to the State of Nevada and provisions of the NNSS waste acceptance criteria regarding routing and related matters associated with such shipments. The discussion below summarizes comments from these letters not raised on the Draft NNSS SWEIS and presents DOE/NNSA's responses.

Comment. The impacts of DOE/NNSA's Preferred Alternative, described in Section 3.4 of the Final NNSS SWEIS, were not adequately analyzed.

Response. As addressed in Section 3.4 of the Final NNSS SWEIS, the Preferred Alternative is a hybrid composed of elements of the three alternatives that were examined in detail in the Draft NNSS SWEIS. DOE/NNSA determined, by resource area, that the potential environmental consequences of the Preferred Alternative would fall within the range of impacts reported in the NNSS SWEIS.

Further, there would be no synergistic effects resulting in unique impacts stemming from the hybrid Preferred Alternative. The potential environmental impacts resulting from implementation of the Preferred Alternative are displayed in Table S-1 and 3-3 of the Final NNSS SWEIS, including activities for which there is insufficient information available to conduct a project-specific NEPA review.

Comment. The Final NNSS SWEIS does not address the potential construction of a MLLW Treatment Facility at the NNSS.

Response. Construction of a new MLLW treatment facility within the Area 5 RWMC is not envisioned at this time. If a need for such a facility is identified in the future, DOE/NNSA will complete the appropriate NEPA review.

Comment. The Final NNSS SWEIS does not include estimates of criteria and hazardous air pollutants from rail and intermodal (train to truck) transportation in Tables 5-34, 5-39, and 5-42.

Response. Tables 5-34, 5-39, and 5-42 present detailed data that include analytic results on criteria and hazardous air pollutants. In addition, Tables 5-35, 5-40 and 5-43 of the Final NNSS SWEIS present the data in a different format, including estimated emissions of criteria and hazardous air pollutants from both the all-truck transport scenario and the primarily-rail transport scenario (intermodal train to truck transport) that would occur under each of the alternatives.

Comment. The Final NNSS SWEIS fails to evaluate impacts that would be associated with the proposed Greater-than-Class C Disposal Facility.

Response. The cumulative impacts analysis (Section 6.2.1.1) of the Final NNSS SWEIS evaluated the potential environmental impacts associated with a Greater-than-Class C Radioactive Waste Disposal Facility at the NNSS should DOE select the NNSS site for such a facility. The data used were taken from the Draft Environmental Impact Statement for the Disposal of Greater-Than-Class C (GTCC) Low-Level Radioactive Waste and GTCC-Like Waste (DOE/EIS-0375-D), issued in February 2011. Prior to selecting a site for the disposal of GTCC low-level radioactive waste and GTCC-like waste, DOE will complete the appropriate NEPA review.

[FR Doc. 2014-30594 Filed 12-29-14; 8:45 am]

BILLING CODE 6450-01-P